GENERAL SERVICES ADMINISTRATION

DEPARTMENT OF DEFENSE

NATIONAL AERONAUTICS AND SPACE ADMINISTRATION

[OMB Control No. 3090-00XX; Docket 2010-0002; Sequence 15]

General Services Administration Acquisition Regulation; Submission for OMB Review; GSA Form 1217, Lessor's Annual Cost Statement

AGENCY: Department of Defense (DOD), General Services Administration (GSA), and National Aeronautics and Space Administration (NASA).

ACTION: Notice of request for public comments regarding a new OMB information clearance.

SUMMARY: Under the provisions of the Paperwork Reduction Act of 1995 (44 U.S.C. Chapter 35), the Regulatory Secretariat will be submitting to the Office of Management and Budget (OMB) a request to review and approve a new information collection requirement regarding Lessor's Annual Cost Statement. A request for public comments was published in the Federal Register at 74 FR 63704, on December 4, 2009. No comments were received.

Public comments are particularly invited on: Whether this collection of information is necessary for the proper performance of functions of the FAR, and whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

DATES: Submit comments on or before April 22, 2010.

ADDRESSES: Submit comments regarding this burden estimate or any other aspect of this collection of information, including suggestions for reducing this burden to the GSA Desk Officer, OMB, Room 10236, NEOB, Washington, DC 20503, and a copy to the Regulatory Secretariat (MVCB), General Services Administration, 1800 F Street, NW., Room 4041, Washington, DC 20405. Please cite OMB Control No. 3090-00XX, Lessor's Annual Cost Statement, in all correspondence.

FOR FURTHER INFORMATION CONTACT: Ms. Beverly Cromer, Procurement Analyst, Contract Policy Branch, at telephone (202) 501-1448 or via e-mail to Beverly.cromer@gsa.gov.

SUPPLEMENTARY INFORMATION:

A. Purpose

In accordance with the proposed GSAR 570.802(d), the GSA Form 1217 is used to obtain information about operating expenses for property being offered for lease to house Federal agencies. These expenses are normally included in the rental payments we make to lessors. The form also provides an equitable way to compare lessor proposals, and it provides costs of building expenses that can be negotiated to obtain fair and reasonable prices.

B. Annual Reporting Burden

Respondents: 5,733.

Responses per Respondent: 1.

Annual Responses: 5,733.

Hours per Response: 1.

Total Burden Hours: 5,733.

Obtaining Copies of Proposals: Requesters may obtain a copy of the information collection documents from the General Services Administration, Regulatory Secretariat (MVCB), 1800 F Street, NW., Room 4041, Washington, DC 20405, telephone (202) 501-4755. Please cite OMB Control No. 3090-00XX, Lessor's Annual Cost Statement, in all correspondence.

Dated: March 17, 2010.
Al Matera,
Director, Acquisition Policy Division.

[FR Doc. 2010-6394 Filed 3-22-10; 8:45 am]

BILLING CODE 6820-34-P